DEPARTMENT OF THE TREASURY

Fiscal Service

31 CFR Part 208

[Docket No. Fiscal-2022-0003]

RIN 1530-AA27

Management of Federal Agency Disbursements; Correction

AGENCY: Bureau of the Fiscal Service, Treasury.

ACTION: Final rule; correction.

SUMMARY: The Department of the Treasury (“Treasury”), Bureau of the Fiscal Service (“Fiscal Service”) is correcting a final rule that was published in the Federal Register on February 21, 2024, to amend Fiscal Service's Management of Federal Agency Disbursements regulation. The regulation implements a statutory mandate requiring the Federal Government to deliver non-tax payments by electronic funds transfer (EFT) unless Treasury determines that a waiver of the requirement is appropriate. The final rule strengthens the EFT requirement by narrowing the scope of existing waivers from the EFT mandate or requiring agencies to obtain Fiscal Service's approval to invoke certain existing waivers.

DATES: The final rule is effective March 22, 2024.

FOR FURTHER INFORMATION CONTACT: Matthew Helfrich, Management and Program Analyst, Bureau of the Fiscal Service at (215) 806-9616.

SUPPLEMENTARY INFORMATION: In 89 FR 12955 (FR Doc 2024-03204), appearing on page 12955 of the Federal Register published February 21, 2024, the following correction is made:

§ 208.4 [Corrected]

1. On page 12960, in the second column, in part 208, instruction 2d is corrected to read: “Amend § 208.4 by: Revising newly redesignated paragraphs (a)(4) and (a)(7), and adding a sentence at the end of newly redesignated paragraph (a)(8).”

Dated: March 8, 2024.
Lela Anderson,
Attorney-Advisor, FR Liaison.

[FR Doc. 2024-05385 Filed 3-13-24; 8:45 am]

BILLING CODE 4810-AS-P